DEPARTMENT OF THE INTERIOR

Bureau of Land Management

[MT-926-06-1910-BJ-5REG]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Martin Bonorden, Cadastral Surveyor, Branch of Cadastral Survey, Bureau of Land Management, 5001 Southgate Drive, Billings, Montana, 59101-4669, telephone (701) 227-7730 or (406) 896-5009.

SUPPLEMENTARY INFORMATION: This survey was executed at the request of the Crow Agency, through the Rocky Mountain Regional Director, Bureau of Indian Affairs, and was necessary to determine Trust and Tribal land.

The lands we surveyed are:

Principal Meridian, Montana

Tps. 3 and 4 S., Rs. 32 E.

The plat, in one sheet, representing the dependent resurvey of a portion of the north boundary, a portion of the subdivisional lines (including Township 3 South, Range 32 East), a portion of the subdivision of section 2, and the adjusted original meanders of the former right bank of the Big Horn River, through section 2 (and the south half of section 35, Township 3 South, Range 32 East), the subdivision of section 2, and the survey of the meanders of the present right bank of the Big Horn River, through section 2, and certain division of accretion lines in section 2, Townships 3 and 4 South, Range 32 East, Principal Meridian, Montana, was accepted March 27, 2006.

We will place copies of the plat, in one sheet, and related field notes we described in the open files. They will be available to the public as a matter of information.

If BLM receives a protest against this survey, as shown on the plat, in one sheet, prior to the date of the official filing, we will stay the filing pending our consideration of the protest.

We will not officially file this plat, in one sheet, until the day after we have accepted or dismissed all protests and they have become final, including decisions or appeals.

Dated: March 30, 2006.
Thomas M. Deiling,
Chief Cadastral Surveyor, Division of Resources.

[FR Doc. E6-4918 Filed 4-4-06; 8:45 am]

BILLING CODE 4310-$$-P